DEPARTMENT OF COMMERCE

International Trade Administration

Renewable Energy Policy Business Roundtable in Livermore, CA

AGENCY: International Trade Administration, Department of Commerce.

ACTION: Notice.

SUMMARY: The U.S. Department of Commerce (DOC)'s International Trade Administration (ITA) is seeking representatives from 20 qualified U.S. companies to join Japanese industry counterparts for a U.S.-Japan Renewable Energy Policy Business Roundtable on Wednesday, December 11, 2013 in Livermore, California. Senior level officials from DOC, the U.S. Department of Energy (DOE), and Japanese Ministry of Economy, Trade and Industry (METI) will attend the Roundtable to provide policy updates, as well as to ensure that the exchange of views among the companies will be taken into consideration in the U.S-Japan Clean Energy Policy Dialogue (Dialogue) that will be held during the same week and in other bilateral meetings throughout the year.

The Roundtable supports ITA's commitments contained in the Renewable Energy and Energy Efficiency (RE&EE) Export Initiative, which aims to significantly increase U.S. RE&EE exports under the National Export Initiative.

DATES: The roundtable will be held on December 11, 2013.

Participants must apply no later than November 15, 2013.

FOR FURTHER INFORMATION CONTACT: Cora Dickson, Industry and Analysis, Office of Energy and Environmental Industries; Phone: 202-482-6083; Fax: 202-482-5665; Email: Cora.Dickson@trade.gov.

SUPPLEMENTARY INFORMATION: Background:

In December 2012, agencies of the Governments of the United States and Japan—DOE, DOC, and METI—convened the first bilateral Renewable Energy Policy Business Roundtable in Tokyo. Held in conjunction with the Dialogue, the Roundtable allowed the private sector to explore areas of mutual concern and share with government officials their experiences with the policy landscape of renewable energy and energy efficiency. Both governments agreed to hold a follow-up Roundtable in the United States. It should also be noted that the American Chamber of Commerce in Japan held a renewable energy financing workshop in February 2013 in Tokyo to further address issues highlighted by the Roundtable.

Goals of Participation:

• Gain a deeper understanding of the changing Japanese policy and regulatory landscape with respect to RE&EE;

• Interact with Japanese policymakers and private sector representatives active in the RE&EE sector;

• Provide perspectives on how to increase U.S.-Japan business partnerships in the RE&EE sector; and

• Enhance the bilateral Dialogue by identifying key policy issues and sharing best practices.

Roundtable Structure:

The Roundtable will be a daylong event. The morning plenary session will be held at the Lawrence Livermore National Laboratory, and the afternoon breakout sessions will be held at the Livermore Valley Open Campus.

• Lunch will be provided.

• Interpretation will be provided.

• All participants are invited to a reception hosted by METI in the evening immediately after the Roundtable.

• All participants are also invited to optional, no-host events in Livermore the evening of December 10 with the Japanese delegation.

• Lodging costs will not be covered, but accommodations for the Roundtable participants will be offered at a hotel in Livermore at a group rate.

Topics to be covered:

• Renewable energy financing

• Rooftop solar deployment

• Transmission capacity and storage

• Smart grid deployment

• Distributed generation

• Energy efficiency for residential and commercial buildings

Participation Requirements:

All parties interested in participating in the Roundtable must complete and submit an application package for consideration by ITA. All applicants will be evaluated based on their ability to meet certain conditions and best satisfy the selection criteria as outlined below. A minimum of 15 and maximum of 20 companies will be selected to participate in the Roundtable from the applicant pool. U.S. companies already doing business in Japan as well as U.S. companies seeking to enter the Japanese market for the first time may apply. Applications will be reviewed on a rolling basis in the order they are received.

Selected companies will be contacted with information about the final agenda and payment of the fees. Due to space limitations, only one participant per company can attend the Roundtable. Each participant may invite one (1) additional person to the Reception. Participants in the Roundtable are required to be pre-cleared for access to the facility. Additional clearance procedures are required for foreign visitors.

Fees:

After a company has been selected to participate in the Roundtable, a participation fee of $500 is required. The Roundtable and related events may be cancelled at any time by the Department of Commerce and all contributions refunded. If, for any reason, a participant cancels their participation prior to the Roundtable, the Department of Commerce, at its sole discretion, and upon its determination that it would be consistent with its authorities, may allow a partial refund of the contributed fee.

Exclusions & Expenses:

The Roundtable participation fee does not include any personal travel expenses such as lodging, most meals, incidentals, local ground transportation, and air transportation to/from the event location.

Conditions for Participation:

An applicant must send an email to reee@trade.gov with the following information.

• Name of Applicant

• Company Name

• Company Description

• Company Location

• Business Phone Number

In addition, the applicant must address how he/she satisfies the four selection criteria listed below:

(1) Whether the applicant represents a U.S. company that fits one of the following profiles:

• Companies that manufacture technology or provide services in the renewable energy sector (particularly solar);

• Developers of renewable energy projects with global experience;

• Local utilities who are willing to share their experience with domestic policies; and

• Companies active in the smart grid and energy efficiency industries.

(2) The applicant's interest in the Japanese RE&EE sector;

(3) The applicant's ability to identify and discuss policy issues relevant to U.S. competitiveness in the renewable energy or smart grid sectors;

(4) Consistency of the applicant's experiences and background with the stated scope of the event (see “Topics to be Covered”).

Diversity of company size and location may also be considered during the selection process. Referrals from political organizations and any documents containing references to partisan political activities (including political contributions) will be removed from an applicant's submission and not considered during the selection process.

Timeline for Recruitment and Applications

Recruitment for the Roundtable will begin immediately and conclude no later than November 15, 2013. The U.S. Department of Commerce will review applications and make selection decisions on a rolling basis beginning on or about October 28, 2013. Applications received after November 15, 2013 will be considered only if space and scheduling constraints permit.

Dated: October 23, 2013.
Edward A. O'Malley,
Director, Office of Energy and Environmental Industries.

[FR Doc. 2013-25411 Filed 10-25-13; 8:45 am]

BILLING CODE 3510-DR-P